DEPARTMENT OF TRANSPORTATION

Surface Transportation Board

[STB Finance Docket No. 34531]¹

The Indiana Rail Road Company—Acquisition Exemption—Line of Monon Rail Preservation Corporation

The Indiana Rail Road Company (INRD), a Class III rail carrier, has filed a verified notice of exemption under 49 CFR 1150.45 to acquire from Monon Rail Preservation Corporation (Monon), approximately 3.98 miles of rail line between milepost Q217.67 at Hunters, IN, and milepost Q213.69 at Ellettsville, IN, in Monroe County, IN.² In 2001, INRD entered into an operating agreement with Monon, whereby INRD became the operator of the line.³

¹ This notice corrects one served and published in this docket on November 30, 2004, to reflect that the verified notice of exemption was filed under 49 CFR 1150.45 and to make a conforming change.

² In a decision in this proceeding served on November 22, 2004, the Board granted a request by INRD for waiver of the 60-day advance labor notice requirement of 49 CFR 1150.42(e).

³ See The Indiana Rail Road Company-Operation Exemption-Monon Rail Preservation Corporation, STB Finance Docket No. 33670 (STB served Feb. 21, 2001).

INRD indicates that the parties would like to consummate the transaction on or shortly after December 6, 2004.

If the notice contains false or misleading information, the exemption is void ab initio. Petitions to revoke the exemption under 49 U.S.C. 10502(d) may be filed at any time. The filing of a petition to revoke will not automatically stay the transaction.

An original and 10 copies of all pleadings, referring to STB Finance Docket No. 34531, must be filed with the Surface Transportation Board, 1925 K Street, NW., Washington, DC 20423-0001. In addition, one copy of each pleading must be served on John Broadley, 1054 31st Street, NW., Suite 200, Washington, DC 20007.

Board decisions and notices are available on our Web site at www.stb.dot.gov.

Decided: November 22, 2004.
By the Board, David M. Konschnik, Director, Office of Proceedings.
Vernon A. Williams,
Secretary.

[FR Doc. 04-26932 Filed 12-7-04; 8:45 am]

BILLING CODE 4915-01-P